SMALL BUSINESS ADMINISTRATION

Guidelines on Goal Setting Under Procurement Preference Programs

AGENCY: Small Business Administration (SBA).

ACTION: Notice; request for comment.

SUMMARY: The U.S. Small Business Administration (SBA) must ensure that agencies establish goals for small business procurement that collectively, meet or exceed the governmentwide goals established by the Small Business Act in section 15 (g)(1) and (2). It is the policy of the Federal government to ensure that small businesses have maximum practicable opportunity to participate in Federal procurement. SBA is responsible for implementing the goaling program, assisting Federal agencies in establishing and obtaining the goals, and publishing quality information to the public. We are committed to making the methods, models, and processes that produce these results transparent and rigorous.

In summary, we are proposing these Goaling Guidelines to implement the recommendations made by GAO in August 2001 and as a continuation of our commitment to meeting our responsibility to implement the Small Business Preference Goaling Program in a user friendly manner. We welcome the opportunity for the Federal agencies and the public to comment on our proposed Goaling Guidelines.

SUPPLEMENTARY INFORMATION:

Background

SUMMARY: The Small Business Act establishes governmentwide goals and requires all Federal agencies with procurement authority to negotiate goals annually with SBA to ensure that small businesses receive maximum opportunity for participation in Federal contracts. Statutory governmentwide goals based on the value of all prime contract awards are:

• 23 percent for small business;

• 5 percent for small disadvantaged small business;

• 5 percent for women-owned small business;

• 3 percent for service-disabled, veteran-owned small business; and

• 3 percent for certified HUBZone small businesses (FY 2003).

(FY 1999—1 percent, FY 2000—1.5 percent, FY 2001—2 percent,

FY 2002—2.5 percent, FY 2003 and beyond—3 percent).

Subcontracting goals based on the value of subcontract awards are:

• 5 percent for small disadvantaged small business;

• 5 percent for women-owned small business; and

• 3 percent for service-disabled, veteran-owned small business.

SBA is required to obtain procurement data on achievements towards those goals and to publish an annual report to the President and the Congress that is also included in the State of Small Business report. As part of this mandate, SBA issues Goaling Guidelines that provide policy direction to the various Federal agencies pertaining to establishing annual goals, reporting procurement activity and submitting corrective action plans when goals are not met under the small business procurement preference programs. They provide procedures and timelines for the SBA to negotiate goals with each agency so that collectively the government-wide goals are established. The Goaling Guidelines, by which SBA manages the goaling program, must be updated periodically. Further, this document includes information on the statutory government-wide small business goals.

The current Goaling Guidelines were last revised in FY 2000 and are published on SBA's Web site at www.sba.gov/GC/goals.

In August 2001, the General Accounting Office (GAO) reviewed SBA's Goaling Program. (Small Business: More Transparency Needed in Prime Contract Goal Program. GAO-01-551. August 2001.) On pages 3 and 17, GAO recommended that the Goaling Guidelines be revised to ensure clarity, transparency and consistency. The recommendations require SBA to:

(1) Clearly communicate its goal-setting methodology,

(2) ensure that all agencies have an opportunity to negotiate goals for fiscal year 2002 and subsequent years,

(3) re-assess its rationale for making certain types of exclusions, and

(4) clarify its guidance on small business goals.

Each of the GAO recommendations is addressed in the proposed Goaling Guidelines. We believe the proposed revisions clarify SBA's goaling policies and provide transparency to the agencies and the public. SBA has posted the proposed Goaling Guidelines discussed in this Notice on its Web site at www.sba.gov/GC/goals. Click on the “Proposed Goaling Guidelines” button.

DATES: Comments of publication in the Federal Register must be received by 30 days from date of publication in the Federal Register.

ADDRESSES: Address comments to Linda G. Williams, Associate Administrator for Government Contracting, Small Business Administration, 409 Third St., SW., Suite 8100, Washington, DC 20416. Send e-mail to goaling@sba.gov. You may also submit comments electronically to http://www.regulations.gov.

FOR FURTHER INFORMATION CONTACT: Pat Holden, National Goaling Program Manager, Small Business Administration, 409 Third St., SW., Suite 8000, Washington, DC 20416. Telephone (202) 205-6460 or by e-mail to patricia.holden@sba.gov.

Authority: Sec. 21, Pub. L. 507, 92 Stat. 1757; Sec 502(3), Pub. L. 100-656, 102 Stat. 3881; Sec. 7106(a)(2)(c), Pub. L. 103-355, 108 Stat. 3375; Sec. 221, Pub. L. 5-507.

Dated: July 17, 2003.
Fred C. Armendariz,
Associate Deputy Administrator, for Government Contracting and Business Development.

[FR Doc. 03-18724 Filed 7-22-03; 8:45 am]

BILLING CODE 8023-01-P